DEPARTMENT OF VETERANS AFFAIRS

[OMB Control No. 2900-0586]

Agency Information Collection Activity Under OMB Review: Department of Veterans Affairs Acquisition Regulation (VAAR) Clause 852.211-72, Technical Industry Standards

AGENCY: Office of Acquisition and Logistics, Department of Veterans Affairs.

ACTION: Notice.

SUMMARY: In compliance with the Paperwork Reduction Act (PRA) of 1995, this notice announces that the Office of Acquisition and Logistics, Department of Veterans Affairs, will submit the collection of information abstracted below to the Office of Management and Budget (OMB) for review and comment. The PRA submission describes the nature of the information collection and its expected cost and burden and it includes the actual data collection instrument.

DATES: Comments must be submitted on or before October 25, 2019.

ADDRESSES: Submit written comments on the collection of information through www.Regulations.gov, or to Office of Information and Regulatory Affairs, Office of Management and Budget, Attn: VA Desk Officer; 725 17th St. NW, Washington, DC 20503 or send through electronic mail to oira_submission@omb.eop.gov. Please refer to “OMB Control No. 2900-0586” in any correspondence.

FOR FURTHER INFORMATION CONTACT: Danny S. Green, Office of Quality, Performance and Risk (OQPR), Department of Veterans Affairs, 810 Vermont Avenue NW, Washington, DC 20420, (202) 421-1354 or email danny.green2@va.gov. Please refer to “OMB Control No. 2900-0586” in any correspondence.

SUPPLEMENTARY INFORMATION: Authority: 44 U.S.C. 3501-21.

Title: Department of Veterans Affairs Acquisition Regulation (VAAR) Clause 852.211-72, Technical Industry Standards.

OMB Control Number: 2900-0586.

Type of Review: Extension of a currently approved information collection.

Abstract: This Paperwork Reduction Act (PRA) submission seeks renewal with changes of Office of Management and Budget (OMB) approval No. 2900-0586 as follows: Due to the decreased number of respondents, the total annual burden hours decreased by 666, from 1,225 to 559. However, the average burden time per response has not changed.

VAAR clause 852.211-72, Technical Industry Standards, requires that items offered for sale to VA under the solicitation conform to certain technical industry standards, such as United States Department of Agriculture (USDA) or the USDA Institutional Meat Purchase Specifications (IMPS) and that the contractor furnish evidence to VA that the items meet that requirement. The evidence is normally in the form of a tag or seal affixed to the item, such as a label on beef product. In most cases, this requires no additional effort on the part of the contractor, as the items come from the factory with the tags already in place, as part of the manufacturer's standard manufacturing operation. Occasionally, for items not already meeting standards or for items not previously tested, a contractor will have to furnish a certificate from an acceptable laboratory certifying that the items furnished have been tested in accordance with, and conform to, the specified standards. Only firms whose products have not previously been tested to ensure the products meet the industry standards required under the solicitation and contract will be required to submit a separate certificate. The information will be used to ensure that the items being purchased meet minimum safety standards and to protect VA employees, VA beneficiaries, and the public.

An agency may not conduct or sponsor, and a person is not required to respond to a collection of information unless it displays a currently valid OMB control number. The Federal Register Notice with a 60-day comment period soliciting comments on this collection of information was published at 84 FR 29285 on June 21, 2019.

Affected Public: Business or other for-profit and not-for-profit institutions.

Estimated Annual Burden: 559 Burden Hours.

Estimated Average Burden Per Respondent: 30 Minutes.

Frequency of Response: One per bid or offer received.

Estimated Number of Respondents: 1,118.

By direction of the Secretary:
Danny S. Green,
Interim VA Clearance Officer, Office of Quality, Performance and Risk, Department of Veterans Affairs.

[FR Doc. 2019-20722 Filed 9-24-19; 8:45 am]

BILLING CODE 8320-01-P